GENERAL SERVICES ADMINISTRATION

[FMR Bulletin 2005-B3]

Federal Management Regulation; Redesignations of Federal Buildings

AGENCY: Public Buildings Service (P), GSA.

ACTION: Notice of a bulletin.

SUMMARY: The attached bulletin announces the redesignations of eight (8) Federal buildings.

EXPIRATION DATE: This bulletin expires January 11, 2006. However, the building redesignations announced by this bulletin will remain in effect until canceled or superseded.

FOR FURTHER INFORMATION CONTACT Anthony E. Costa, General Services Administration, Public Buildings Service (P), Washington, DC 20405, telephone (202) 501-1100, e-mail at anthony.costa@gsa.gov.

Dated: August 24, 2005.
Stephen A. Perry,
Administrator of General Services.

GENERAL SERVICES ADMINISTRATION

[FMR Bulletin 2005-B3]

Federal Management Regulation; Redesignations of Federal Buildings

TO: Heads of Federal Agencies

SUBJECT: Redesignations of Federal Buildings

1. What is the purpose of this bulletin? This bulletin announces the redesignations of eight (8) Federal Buildings.

2. When does this bulletin expire? This bulletin expires January 11, 2006. However, the building redesignations announced by this bulletin will remain in effect until canceled or superseded.

3. Redesignations. The former and new names of the buildings being redesignated are as follows:

Former name | New name
United States Courthouse, 100 North Palafox, Pensacola, FL 32502 | Winston E. Arnow United States Courthouse, 100 North Palafox, Pensacola, FL 32502.
Federal Building and United States Courthouse, 615 East Houston Street, San Antonio, TX 78205 | Hipolito F. Garcia Federal Building and United States Courthouse, 615 East Houston Street, San Antonio, TX 78205.
United States Courthouse, 125 Bull Street, Savannah, GA 31401 | Tomochichi United States Courthouse, 125 Bull Street, Savannah, GA 31401.
Federal Building, 324 Twenty-Fifth Street, Ogden, UT 84401 | James V. Hansen Federal Building, 324 Twenty-Fifth Street, Ogden, UT 84401.
Federal Building, Fifth and Richardson Avenues, Roswell, NM 88201 | Joe Skeen Federal Building, Fifth and Richardson Avenues, Roswell, NM 88201.
United States Courthouse, 501 I Street, Sacramento, CA 95184 | Robert T. Matsui United States Courthouse, 501 I Street, Sacramento, CA 95184.
Federal Building and United States Courthouse, 131 East 4th Street, Davenport, IA 52801 | United States Courthouse, 131 East 4th Street, Davenport, IA 52801.
United States Courthouse, Seventh and East Jackson Street, Brownsville, TX 78520 | Reynaldo G. Garza and Filemon B. Vela United States Courthouse, Seventh and East Jackson Street, (aka 600 E. Harrison Street), Brownsville, TX 78520.

4. Who should we contact for further information regarding redesignation of these Federal Buildings? General Services Administration, Public Buildings Service (P),Attn: Anthony E. Costa, 1800 F Street, N.W., Washington, DC 20405, telephone number: (202) 501-1100, e-mail at anthony.costa@gsa.gov.

[FR Doc. 05-17596 Filed 9-2-05; 8:45 am]

BILLING CODE 6820-23-S